DEPARTMENT OF AGRICULTURE

Grain Inspection, Packers and Stockyards Administration

Deposting of Stockyards

Notice is hereby given, that the livestock markets named herein, originally posted on the dates specified below as being subject to the Packers and Stockyards Act, 1921, as amended (7 U.S.C. 181 et seq.), no longer come within the definition of a stockyard under the Act and are therefore, no longer subject to the provisions of the Act.

Facility No., name, and location of stockyard | Date of posting
MN-170, Speldrich Feeder Pig Market, Belgrade, Minnesota | July 22, 1977.
WA-120, Stockland Union Stockyards, Inc., Spokane, Washington | November 1, 1921.

This notice is in the nature of a change relieving a restriction and, thus, may be made effective in less than 30 days after publication in the Federal Register without prior notice or other public procedure. This notice is given pursuant to section 302 of the Packers and Stockyards Act (7 U.S.C. 202) and is effective upon publication in the Federal Register.

Done at Washington, D.C. this 28th day of February 2001.
David R. Shipman,
Acting Administrator Grain Inspection, Packers and Stockyards Administration.

[FR Doc. 01-5693 Filed 3-7-01; 8:45 am]

BILLING CODE 3410-EN-P